DEPARTMENT OF THE INTERIOR

National Park Service

Notice of Inventory Completion: University of Pennsylvania Museum of Archaeology and Anthropology, Philadelphia, PA

AGENCY: National Park Service, Interior.

ACTION: Notice.

Notice is here given in accordance with the Native American Graves Protection and Repatriation Act (NAGPRA), 25 U.S.C. 3003, of the completion of an inventory of human remains in the possession of the University of Pennsylvania Museum of Archaeology and Anthropology, Philadelphia, PA. The human remains were removed from northern Indiana and other areas in the Great Lakes region.

This notice is published as part of the National Park Service’s administrative responsibilities under NAGPRA, 25 U.S.C. 3003 (d)(3). The determinations within this notice are the sole responsibility of the museum, institution, or Federal agency that has control of the Native American human remains. The National Park Service is not responsible for the determinations within this notice.

A detailed assessment of the human remains was made by University of Pennsylvania Museum of Archaeology and Anthropology professional staff in consultation with representatives of the Miami Tribe of Oklahoma and the Peoria Tribe of Indians of Oklahoma.

At an unknown date, human remains representing a minimum of five individuals were removed from an unknown site in the Great Lakes region by an unknown individual. The human remains were in the possession of the Academy of Natural Sciences, Philadelphia, PA, for an unknown period of time and in 1997 were transferred to the University of Pennsylvania Museum of Archaeology and Anthropology. According to museum records, at least one set of human remains dates to the Historic period. No known individuals were identified. No associated funerary objects are present.

At an unknown date, probably between 1800 and 1853, human remains representing a minimum of one individual were removed from an unknown site in Indiana by Dr. Tuley. At an unknown date, the human remains were donated to the Academy of Natural Sciences by Dr. Tuley, and in 1997, were transferred to the University of Pennsylvania Museum of Archaeology and Anthropology. According to museum records, the human remains date to the Historic period. No known individual was identified. No associated funerary objects are present.

At an unknown date, human remains representing a minimum of one individual were removed from an unknown site in the Great Lakes region by Dr. Enos Lowe. At an unknown date, the human remains were donated to the Academy of Natural Sciences by Dr. Lowe, and in 1997, were transferred to the University of Pennsylvania Museum of Archaeology and Anthropology. Original catalog documentation identifies the individual as “Big-Fire, a Miami Chief.” No associated funerary objects are present.

At an unknown date, probably between 1800 and 1853, human remains representing a minimum of one individual were removed from an unknown site in Indiana by J.W. Davies. At an unknown date, the human remains were donated to the Academy of Natural Sciences by Mr. Davies, and in 1997, were transferred to the University of Pennsylvania Museum of Archaeology and Anthropology. Original catalog documentation identifies the individual as “Miami Capt. Jim, a Miami Chief.” No associated funerary objects are present.

At an unknown date, probably between 1800 and 1853, human remains representing a minimum of three individuals were removed from an unknown site near Pendleton, Madison County, IN, by Dr. Edwin Fussel. At an unknown date, the human remains were donated to the Academy of Natural Sciences by Dr. Fussell, and in 1997, were transferred to the University of Pennsylvania Museum of Archaeology and Anthropology. Museum records do not contain any information on the age of the human remains. No known individuals were identified. No associated funerary objects are present.

In 1845, human remains representing a minimum of one individual were removed from an unknown site in the Great Lakes region by Rev. W.F. Ferguson. In 1845, the human remains were donated to the Academy of Natural Sciences by Rev. Ferguson, and in 1997, were transferred to the University of Pennsylvania Museum of Archaeology and Anthropology. Museum records do not contain any information on the age of the human remains. No known individual was identified. No associated funerary objects are present.

The human remains described above have been identified as Native American based on accession information that identifies them as “Miami.” Archeological, historical, and ethnographic information, along with information provided by the Miami Tribe of Oklahoma, indicate that northern Indiana, including Madison County, and adjacent areas of the Great Lakes region are within the aboriginal and historic homeland of the Miami people. The Miami people are represented today by the Miami Tribe of Oklahoma and the Peoria Tribe of Indians in Oklahoma.

Officials of the University of Pennsylvania Museum of Archaeology and Anthropology have determined that, pursuant to 25 U.S.C. 3001 (9-10), the human remains described above represent the physical remains of 12 individuals of Native American ancestry. Officials of the University of Pennsylvania Museum of Archaeology and Anthropology also have determined that, pursuant to 25 U.S.C. 3001 (2), there is a relationship of shared group identity that can be reasonably traced between the Native American human remains and the Miami Tribe of Oklahoma and the Peoria Tribe of Indians in Oklahoma. The Peoria Tribe of Indians in Oklahoma has agreed to the repatriation of the human remains to the Miami Tribe of Oklahoma.

Representatives of any other Indian tribe that believes itself to be culturally affiliated with the human remains should contact Dr. Jeremy Sabloff, the Williams Director, University of Pennsylvania Museum of Archaeology and Anthropology, Philadelphia, PA 19104-6324, telephone (215) 898-4051, facsimile (215) 898-0657, before September 19, 2003. Repatriation of the human remains to the Miami Tribe of Oklahoma may proceed after that date if no additional claimants come forward.

The University of Pennsylvania Museum of Archaeology and Anthropology is responsible for notifying the Miami Tribe of Oklahoma and the Peoria Tribe of Indians in Oklahoma that this notice has been published.

Dated: July 15, 2003.
John Robbins,
Assistant Director, Cultural Resources.

[FR Doc. 03-21344 Filed 8-19-03; 8:45 am]

BILLING CODE 4310-70-S